DEPARTMENT OF HOMELAND SECURITY

[Docket No. DHS-2015-0017]

Information Sharing and Analysis Organization

AGENCY: Department of Homeland Security.

ACTION: Notice and request for comments.

SUMMARY: This Notice announces a request for public comment on draft products produced by the Information Sharing and Analysis Organization (ISAO) Standards Organization (SO) in partnership with the six established ISAO SO Standards Working Groups (SWG). This is the first iteration of draft products that will be used in the development of voluntary standards for Information Sharing and Analysis Organizations (ISAOs) as they relate to E.O. 13691.

DATES: The comment period for the first iteration of the SWG draft voluntary standards for ISAOs will be open until Friday, June 17, 2016. Comments will be accepted after this date, but may not be reflected until later iterations of draft standards documents.

FOR FURTHER INFORMATION CONTACT: If you have questions concerning the draft voluntary standards documents, please contact the ISAO Standards Organization at Contact@ISAO.org.

SUPPLEMENTARY INFORMATION:

Background and Purpose

On February 13, 2015, President Obama signed E.O. 13691 intended to enable and facilitate “private companies, nonprofit organizations, and executive departments and agencies . . . to share information related to cybersecurity risks and incidents and collaborate to respond in as close to real time as possible.”

In accordance with E.O. 13691, DHS has entered into a cooperative agreement with a non-governmental ISAO SO led by the University of Texas at San Antonio with support from the Logistics Management Institute (LMI) and the Retail Cyber Intelligence Sharing Center (R-CISC). The ISAO SO is working with existing information sharing organizations, owners and operators of critical infrastructure, relevant agencies, and other public and private sector stakeholders to identify a common set of voluntary standards or guidelines for the creation and functioning of ISAOs.

As part of this collaborative, transparent, and industry-driven process, the ISAO SO has established six working groups to assist in the development of voluntary standards. This notice is to request comment on the initial working group draft products. Your participation in this comment process is highly encouraged to ensure all equities are being met. To join a working group or to find out how else you can best participate, please visit www.ISAO.org or email Contact@ISAO.org.

Meeting Details

To view details on the corresponding May 19, 2016 in person meeting in Anaheim, CA, please visit the Notice of Public Meeting Federal Register Notice and visit www.ISAO.org.

Submitting Written Comments

The initial draft documents can be found and comments submitted directly to the ISAO SO at https://www.ISAO.org/products/drafts/. This method is preferred by the ISAO SO.

You may also submit written comments to the docket using one of the following methods:

(1) Federal eRulemaking Portal: http://www.regulations.gov. Although this is not a rulemaking action, comments are being submitted to the Federal eRulemaking Portal in an effort to provide transparency to the general public.

(2) Email: Contact@ISAO.org. Include the docket number in the subject line of the message.

(3) Mail: ISAO Standards Organization, c/o LMI, 1777 NE Loop 410, Suite 808, San Antonio, TX 78217-5217.

To avoid duplication, please use only one of these four methods. All comments must either be submitted to the online docket on or before June 17, 2016, or reach the Docket Management Facility by that date.

Comments may be submitted directly to the ISAO SO using the method described above after June 17, 2016. However, these comments may not be reflected until later iterations of draft standards documents.

References

Executive Order 13691 can be found at: https://www.whitehouse.gov/the-press-office/2015/02/13/executive-order-promoting-private-sector-cybersecurity-information-shari.

For additional information about the ISAO Standards Organization, draft products, and how you can best participate in the standards development process, please go to www.ISAO.org or email Contact@ISAO.org.

Authority: 6 U.S.C. 131-134; 6 CFR 29; E.O. 13691.

Dated: May 9, 2016.
Andy Ozment,
Assistant Secretary, Cybersecurity and Communications, National Protection and Programs Directorate, Department of Homeland Security.

[FR Doc. 2016-11128 Filed 5-10-16; 8:45 am]

BILLING CODE P